DEPARTMENT OF HEALTH AND HUMAN SERVICES

Administration for Children and Families

Proposed Information Collection Activity; Tribal Child Support Enforcement Direct Funding Request: 45 CFR 309 (OMB #0970-0218)

AGENCY: Office of Child Support Enforcement, Administration for Children and Families, Department of Health and Human Services.

ACTION: Request for public comments.

SUMMARY: The Office of Child Support Enforcement (OCSE), Administration for Children and Families (ACF) is requesting a 3-year extension of the Tribal Child Support Enforcement Direct Funding Requests (Office of Management and Budget (OMB) #0970-0218, expiration March 31, 2023) with revisions. We are proposing to provide an optional Table of Contents and Cover Sheet for plan pages.

DATES: Comments due within 60 days of publication. In compliance with the requirements of the Paperwork Reduction Act (PRA) of 1995, ACF is soliciting public comment on the specific aspects of the information collection described above.

ADDRESSES: You can obtain copies of the proposed collection of information and submit comments by emailing ocse.tribal@acf.hhs.gov. Identify all requests by the title of the information collection.

SUPPLEMENTARY INFORMATION:

Description: The final rule within 45 CFR part 309, published in the Federal Register on March 30, 2004, contains a regulatory reporting requirement that, in order to receive funding for a Tribal IV-D program, a tribe or tribal organization must submit a plan describing how the tribe or tribal organization meets or plans to meet the objectives of section 455(f) of the Social Security Act, including establishing paternity; establishing, modifying, and enforcing support orders; and locating noncustodial parents. The plan is required for all tribes requesting funding; however, once a tribe has met the requirements to operate a comprehensive program, a new plan is not required annually unless a tribe makes changes to its title IV-D program. If a tribe or tribal organization intends to make any substantial or material changes, a Tribal IV-D plan amendment must be submitted for approval. Tribes and tribal organizations must have an approved plan and submit any required plan amendments to receive funding to operate a Tribal IV-D program.With this request to extend approval of this information collection, OCSE is proposing a change to the paperwork by providing optional plan pages. The optional plan pages organize the Tribal IV-D plan, identify required attachments, and streamline plan amendment submissions. Tribes and tribal organizations who choose to participate will attest to complying with the regulatory requirements in 45 CFR, Parts 309 and 310 and submit plan amendments for changes to the required attachments identified in the Table of Contents. The optional plan pages organize the Tribal IV-D plan, identify required attachments, and streamline plan amendment submissions.

Respondents: Tribes and tribal Organizations.

Annual Burden Estimates

Instrument | Total number of respondents | Annual number of responses per respondent | Average burden hours per response | Annual burden hours
45 CFR 309-New Plan | 2 | 1 | 480 | 960
45 CFR 309-Amended Plan | 60 | 1 | 105 | 6300

Estimated Total Annual Burden Hours: 7,260.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-D of the Social Security Act; 45 CFR 309.

Mary B. Jones,
ACF/OPRE Certifying Officer.

[FR Doc. 2022-20613 Filed 9-22-22; 8:45 am]

BILLING CODE 4184-41-P